DEPARTMENT OF THE TREASURY

Office of the Comptroller of the Currency

Agency Information Collection Activities: Proposed Information Collection; Comment Request; Domestic Credit Card Data

AGENCY: Office of the Comptroller of the Currency (OCC), Treasury.

ACTION: Notice and request for comment.

SUMMARY: The OCC, as part of its continuing effort to reduce paperwork and respondent burden, invites the general public and other Federal agencies to take this opportunity to comment on a new information collection, as required by the Paperwork Reduction Act of 1995 (PRA).

Under the PRA, Federal agencies are required to publish notice in the Federal Register concerning each proposed collection of information, including each proposed extension of an existing collection of information, and to allow 60 days for public comment in response to the notice.

In accordance with the requirements of the PRA, the OCC may not conduct or sponsor, and the respondent is not required to respond to, an information collection unless it displays a currently valid Office of Management and Budget (OMB) control number. The OCC is soliciting comment concerning its proposed information collection titled, “Domestic Credit Card Data.”

DATES: You should submit written comments by: November 4, 2014.

ADDRESSES: Because paper mail in the Washington, DC area and at the OCC is subject to delay, commenters are encouraged to submit comments by email if possible. Comments may be sent to: Legislative and Regulatory Activities Division, Office of the Comptroller of the Currency, Attention: 1557-NEW, 400 7th Street SW., Suite 3E-218, Mail Stop 9W-11, Washington, DC 20219. In addition, comments may be sent by fax to (571) 465-4326 or by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

FOR FURTHER INFORMATION CONTACT: You can request additional information or a copy of the collection from Johnny Vilela or Mary H. Gottlieb, (202) 874-5090, for persons who are deaf or hard of hearing, TTY, (202) 649-5597, Legislative and Regulatory Activities Division, Office of the Comptroller of the Currency, 250 E Street SW., Washington, DC 20219.

SUPPLEMENTARY INFORMATION: The OCC is requesting approval on its proposed information collection:

Title: Credit Card Data.

OMB Control Number: To be assigned by OMB.

Description: This collection involves the provision of monthly comprehensive credit card account level data to the OCC. The OCC requires this comprehensive credit card data to obtain a detailed picture of the activities of national bank credit card issuers. The scope of the credit card data includes domestic general purpose, private label, and business card portfolios (excluding corporate and government). Additionally, it includes credit bureau attributes at the account level and portfolio level data. The collection request covers all credit card receivables managed by the largest national banks credit card issuers and their subsidiaries. The credit card account level data requested uses common definitions and data elements for asset quality metrics (delinquencies, losses, etc.), forbearance activities, and segmentation by credit quality risk indicators (such as FICO scores). The credit card portfolio level data request uses common definitions and data elements for portfolio performance metrics not likely to be captured at the account level. The account level data collection frequency is monthly with credit attributes collected quarterly; and, the portfolio level data collection is quarterly using month-end data for each month in the quarter.

This collection supports OCC's efforts to perform risk-based supervision of large banks by enhancing its benchmarking and analytic capabilities. Comprehensive credit card data allows early warning analysis and benchmarking across the largest federally regulated credit card issuers. A standard set of data elements and definitions allows sound conclusions to be drawn regarding the credit card industry. The data is important and necessary to support supervisory activities to ensure the safety and soundness of the federal banking system.

Type of Review: Regular review.

Affected Public: Businesses or other for-profit.

Estimated Number of Respondents: 17.

Estimated Annual Responses per Respondent: 12.

Estimated Burden per Response: 430 hours.

Estimated Total Annual Burden: 87,720 hours.

An agency may not conduct or sponsor, and a respondent is not required to respond to, an information collection unless the information collection displays a currently valid OMB control number.

Comments submitted in response to this notice will be summarized and included in the request for OMB approval. All comments become a matter of public record. Comments are invited on:

(a) Whether the collection of information is necessary for the proper performance of the functions of the OCC, including whether the information shall have practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: August 18, 2014.
Stuart E. Feldstein,
Director, Legislative & Regulatory Activities Division.

[FR Doc. 2014-21130 Filed 9-4-14; 8:45 am]

BILLING CODE 4810-33-P